DEPARTMENT OF JUSTICE

[OMB 1140-0102]

Agency Information Collection Activities; Proposed eCollection eComments Requested; Title—Revision of a Previously Approved Collection; Explosives Licensee/Permittee Out-of-Business Records

AGENCY: Bureau of Alcohol, Tobacco, Firearms, and Explosives; Department of Justice.

ACTION: 60-Day notice.

SUMMARY: The Department of Justice (DOJ), Bureau of Alcohol, Tobacco, Firearms, and Explosives (ATF), will be submitting the following information collection request (ICR) to the Office of Management and Budget (OMB) for review and approval in accordance with the Paperwork Reduction Act of 1995.

DATES: ATF encourages comments on this information collection. You may submit written comments until midnight on January 27, 2026.

ADDRESSES: Submit written comments and recommendations for this information collection to Matthew Grim, by email to ntcobrc@atf.gov, or by mail to National Tracing Center; 244 Needy Road, Martinsburg, WV 25405. Identify comments by the OMB control number 1140-0102. You may view the proposed information collection instrument online at https://www.atf.gov/rules-and-regulations/federal-register-actions/forms-and-information-collection.

FOR FURTHER INFORMATION CONTACT: If you have additional comments, especially on the estimated public burden or associated response time, suggestions, or need a copy of the proposed information collection instrument with instructions or additional information, contact: Matthew Grim, Out-of-Business Records Center, either by mail at National Tracing Center; 244 Needy Road, Martinsburg, WV 25405, by email at ntcobrc@atf.gov, or telephone at 800-788-7133, ext. 03683.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Abstract: Regulations under 27 CFR 555.128 require explosives licensees/permittees to transfer required records to the ATF Out-of-Business Records Center when they discontinue business without a successor. The records on licensee/permittee importing, manufacturing, shipping, receiving, selling, or otherwise disposing of explosive materials aid ATF in conducting investigations into trafficking and other criminal misuse of explosives.

Overview of This Information Collection

1. Type of information collection: revision of a previously approved collection.

2. The title of the form/collection: Explosives Licensee/Permittee Out-of-Business Records.

3. The agency form number, if any, and the applicable component of the Department sponsoring the collection: Form number: ATF Form none.

Component: Bureau of Alcohol, Tobacco, Firearms, and Explosives; U.S. Department of Justice.

4. Affected public who will be asked or required to respond, as well as the obligation to respond: individuals or households, private sector for- or not-for-profit institutions. The obligation to respond is mandatory per § 555.121.

5. An estimate of the total number of respondents and the amount of time estimated for an average respondent to respond: An estimated 250 respondents will respond to this collection when they discontinue business, and it will take each respondent approximately 30 minutes (0.5 hours) to complete their responses.

6. An estimate of the total annual burden (in hours) associated with the collection: The estimated annual public burden associated with this collection is 115 total hours, which is equal to 230 (total respondents) * 1 (# of responses per respondent) * 0.5 hours (30 minutes).

7. An estimate of the total annual cost burden associated with the collection, if applicable: Based on records over the past three years, most out-of-business records are submitted in electronic form, but some licensees/permittees augment with remaining paper records. They submit these paper records in a large envelope. ATF estimates that capital costs to submit out-of-business records are $1.27 for a large envelope. At 230 annual responses, ATF estimates that the capital cost for this information collection renewal is $292.

Estimated Annualized Respondent Cost and Hour Burden
[Rounded]
Activity | Number of respondents | Frequency | Total annual responses | Time per response (hours) | Total annual burden (hours)
Submit out-of-business records | 230 | 1 | 230 | 0.5 | 115

Revisions to This Information Collection

ATF is revising this information collection, OMB control number 1140-0102, to reflect a decrease in the number of explosives licensees/permittees going out of business over the past three years. This change has also resulted in a corresponding decrease in public burden hours, reducing the number of respondents along with the shipping and mailing cost burden. In addition, this renewal includes a monetized value for the time burden, based on a new request from OMB, and the title has been slightly modified to clarify that it applies to explosives licensees/permittees.

If additional information is required, contact: Darwin Arceo, Department Clearance Officer; United States Department of Justice; Justice Management Division, Enterprise Portfolio Management; Two Constitution Square, 145 N Street NE, 4W-218, Washington, DC.

Dated: November 24, 2025.
Darwin Arceo,
Department Clearance Officer for PRA, U.S. Department of Justice.

[FR Doc. 2025-21338 Filed 11-26-25; 8:45 am]

BILLING CODE 4410-FY-P